DEPARTMENT OF HOMELAND SECURITY

Coast Guard

33 CFR Part 117

[Docket No. USCG-2009-0414]

Drawbridge Operation Regulation; Houma Navigation Canal, Mile 36.0, at Houma, Terrebonne Parish, LA

AGENCY: Coast Guard, DHS.

ACTION: Notice of temporary deviation from regulations.

SUMMARY: The Commander, Eighth Coast Guard District, has issued a temporary deviation from the regulation governing the operation of the SR 661 Swing Bridge across the Houma Navigation Canal, mile 36.0, in Houma, Terrebonne Parish, Louisiana. The deviation is necessary to replace the center pivot pier bearings of the bridge. This deviation allows the bridge to remain closed for 24 hours to accomplish the work.

DATES: This deviation is effective from 6 a.m. on July 22, 2009 until 6 a.m. on July 23, 2009.

ADDRESSES: Documents mentioned in this preamble as being available in the docket are part of docket USCG-2009-0414 and are available online by going to http://www.regulations.gov, selecting the Advanced Docket Search option on the right side of the screen, inserting USCG-2009-0414 in the Docket ID box, pressing Enter, and then clicking on the item in the Docket ID column. This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail David M. Frank, Bridge Administration Branch, Coast Guard; telephone 504-671-2128, e-mail David.M.Frank@uscg.mil. If you have questions on viewing the docket, call Renee V. Wright, Program Manager, Docket Operations, telephone 202-366-9826.

SUPPLEMENTARY INFORMATION: Louisiana Department of Transportation and Development (LDOTD) has requested a temporary deviation from the operating schedule of the State Route 661 Swing Bridge across the Houma Navigation Canal, mile 36.0, in Houma, Terrebonne Parish, Louisiana. The closure is necessary to allow for repairs to the bridge.

Presently, the bridge operates in accordance with 33 CFR 117.455 which requires the draw of the bridge across the Houma Navigation Canal at S661, mile 36.0 at Houma, to open on signal, except that the draw need not be opened for the passage of vessels Monday through Friday except holidays from 7 a.m. to 8:30 a.m., from 11:45 a.m. to 12:15 p.m., from 12:45 p.m. to 1:15 p.m., and 4:30 p.m. to 6 p.m. This deviation will allow the bridge to remain in the closed-to-navigation position from 6 a.m. on Wednesday, July 22, 2009 until 6 a.m. on Thursday, July 23, 2009. Navigation on the waterway consists of tugs with tows, fishing vessels and recreational craft. Due to prior experience and coordination with waterway users it has been determined that this closure will not have a significant effect on these vessels.

The vertical clearance of the swing bridge in the closed-to-navigation position is 1.0 feet and unlimited in the open-to-navigation position. An alternate route is available through La Carpe Bayou. During the deviation period, LDOTD will provide drawtenders for the State Route 661 bridge across La Carpe Bayou, mile 7.5 to open the bridge on signal; except that, the draw need not be opened for the passage of vessels from 7 a.m. until 8:30 a.m. and from 4:30 p.m. until 6 p.m. At the end of the deviation period the La Carpe Bayou bridge will return to its operating schedule in accordance with 33 CFR 117.461. As this work is proposed during hurricane season, if any storms are in the Gulf of Mexico, the work may be postponed and rescheduled.

In accordance with 33 CFR 117.35(e), the drawbridge must return to its regular operating schedule immediately at the end of the designated time period. This deviation from the operating regulations is authorized under 33 CFR 117.35.

Dated: May 18, 2009.
David M. Frank,
Bridge Administrator.

[FR Doc. E9-12782 Filed 6-1-09; 8:45 am]

BILLING CODE 4910-15-P